DEPARTMENT OF TRANSPORTATION

Federal Aviation Administration

14 CFR Part 39

[Docket No. FAA-2016-7262; Directorate Identifier 2015-NM-079-AD]

RIN 2120-AA64

Airworthiness Directives; Airbus Airplanes

AGENCY: Federal Aviation Administration (FAA), DOT.

ACTION: Notice of proposed rulemaking (NPRM).

SUMMARY: We propose to supersede Airworthiness Directive (AD) 98-13-14, for certain Airbus Model A320-211, -212, and -231 airplanes. AD 98-13-14 currently requires repetitive rotating probe inspections of fastener holes and/or the adjacent tooling hole of a former junction of the aft fuselage, as applicable, and corrective action, if necessary. AD 98-13-14 also provides for an optional terminating action for the repetitive inspections. Since we issued AD 98-13-14, an evaluation by the design approval holder (DAH) indicates that the former junction of the aft fuselage is subject to fatigue damage. This proposed AD would continue to require the actions in AD 98-13-14, with revised inspection compliance times. We are proposing this AD to detect and correct fatigue cracks in the former junction of the aft fuselage; fatigue cracking could propagate and could adversely affect the structural integrity of the airplane.

DATES: We must receive comments on this proposed AD by August 5, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425 227-1221.

Examining the AD Docket

You may examine the AD docket on the Internet at http://www.regulations.gov by searching for and locating Docket No. FAA-2016-7262; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2016-7262; Directorate Identifier 2015-NM-079-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 11, 1998, we issued AD 98-13-14, Amendment 39-10602 (63 FR 34556, June 25, 1998) (“AD 98-13-14”). AD 98-13-14 requires actions intended to address an unsafe condition on certain Airbus Model A320 series airplanes. AD 98-13-14 was prompted by a report that four cracks were identified in the fastener holes of the former junction at frame (FR) 68 between stringers 4 and 5, which occurred during a full scale fatigue test. AD 98-13-14 requires repetitive rotating probe inspections of fastener holes and/or the adjacent tooling hole of a former junction of the aft fuselage, and corrective action, if necessary. AD 98-13-14 also provides for an optional terminating action for the repetitive inspections. We issued AD 98-13-14 to prevent reduced structural integrity of the aft fuselage caused by fatigue cracking of the former junction at FR 68.

Since we issued AD 98-13-14, an evaluation by the DAH indicates that the former junction of the aft fuselage is subject to fatigue damage.

The European Aviation Safety Agency (EASA), which is the Technical Agent for the Member States of the European Union, has issued EASA AD 2015-0084, dated May 13, 2015; corrected May 18, 2015 (referred to after this as the Mandatory Continuing Airworthiness Information, or “the MCAI”), to correct an unsafe condition for certain Airbus Model A320-211, -212, and -231 airplanes. The MCAI states:

During a fatigue test campaign, four cracks were identified in the fastener holes of the former junction at frame (FR) 68 between stringers 4 and 5.

This condition, if not detected and corrected, could lead to crack propagation, possibly resulting in reduced structural integrity of the fuselage.

To address this unsafe condition, DGAC [Direction générale de l'aviation civile] France issued * * * [an AD, which corresponds to FAA AD 98-13-14, Amendment 39-10602 (63 FR 34556, June 25, 1998)] to require repetitive inspections and, depending on findings, the accomplishment of an applicable repair solution.

That [DGAC] AD also provided modification of FR 68 [cold working of fastener and tooling holes] in accordance with Airbus Service Bulletin (SB) A320-53-1090 as optional terminating action.

Following new analyses, the thresholds and inspection intervals have been reviewed and adjusted.

For the reason described above, this [EASA] AD retains the requirements of DGAC France AD 96-298-093(B)R2 [http://ad.easa.europa.eu/ad/F-1996-298R2], which is superseded, and requires those actions within the new thresholds and intervals.

This [EASA] AD was republished to correct a typographical error in the Reason.

Repairs include doing applicable related investigative actions (i.e., rotating probe inspection of the hole to make sure the crack is removed and eddy current inspection of the cold expanded holes). You may examine the MCAI in the AD docket on the Internet at http://www.regulations.gov by searching for and locating Docket No. FAA-2016-7262.

Related Service Information Under 1 CFR Part 51

Airbus has issued the following service information:

• Service Bulletin A320-53-1089, Revision 03, dated March 18, 2015. This service information describes procedures for a rotating probe inspection for fatigue cracking of the frame junction holes and the adjacent tooling hole, as applicable, of the right- and left-hand former junctions at FR 68, and repair, including doing applicable related investigative actions.

• Service Bulletin A320-53-1090, Revision 02, dated December 22, 1998. This service information describes procedures for modifying the airplane (cold working of fastener and tooling holes).

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 10 airplanes of U.S. registry.

The actions required by AD 98-13-14 and retained in this proposed AD take about 8 work-hours per product, at an average labor rate of $85 per work-hour. Based on these figures, the estimated cost of the actions that are required by AD 98-13-14 is $680 per product, per inspection cycle.

We also estimate that it would take about 4 work-hours per product to comply with the basic requirements of this AD. The average labor rate is $85 per work-hour. Based on these figures, we estimate the cost of this AD on U.S. operators to be $3,400, or $340 per product.

In addition, we estimate that any necessary follow-on repairs would take about 52 work-hours and require parts costing $3,800, for a cost of $8,220 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-13-14, Amendment 39-10602 (63 FR 34556, June 25, 1998), and adding the following new AD:

Airbus: Docket No. FAA-2016-7262; Directorate Identifier 2015-NM-079-AD.

(a) Comments Due Date

We must receive comments by August 5, 2016.

(b) Affected ADs

This AD replaces AD 98-13-14, Amendment 39-10602 (63 FR 34556, June 25, 1998) (“AD 98-13-14”).

(c) Applicability

This AD applies to Airbus Model A320-211, -212, and -231 airplanes, certificated in any category, manufacturer serial numbers (S/Ns) 0001 through 0123 inclusive, except those that have embodied Airbus Modifications 21780 and 21781 in production.

(d) Subject

Air Transport Association (ATA) of America Code 53, Fuselage.

(e) Reason

This AD was prompted by identification of four cracks in the fastener holes of the former junction at frame (FR) 68 between stringers 4 and 5, which occurred during a fatigue test campaign, and a determination that certain compliance times specified in AD 98-13-14 must be reduced. We are issuing this AD to prevent fatigue cracks from occurring or propagating in certain structure which could adversely affect the structural integrity of the airplane.

(f) Compliance

Comply with this AD within the compliance times specified, unless already done.

(g) Retained Repetitive Inspections and Repair With Revised Compliance Language, and Additional Methods of Approving Repairs

This paragraph restates the requirements of paragraph (a) of AD 98-13-14, with revised compliance language; and adds additional methods of approving repairs. For Model A320 series airplanes, as listed in Airbus Service Bulletins A320-53-1089 and A320-53-1090, both dated November 22, 1995: Prior to the accumulation of 20,000 total flight cycles, or within 500 flight cycles after July 30, 1998 (the effective date of AD 98-13-14), whichever occurs later, perform a rotating probe inspection for fatigue cracking of the fastener holes and/or the adjacent tooling hole, as applicable, of the right- and left-hand former junctions at FR 68, in accordance with the Accomplishment Instructions of Airbus Service Bulletin A320-53-1089, dated November 22, 1995. Accomplishing an inspection required by paragraph (h) of this AD terminates the actions required by this paragraph.

(1) If no crack is detected, accomplish either paragraph (g)(1)(i) or (g)(1)(ii) of this AD.

(i) Repeat the inspection thereafter at intervals not to exceed 20,000 flight cycles; or

(ii) Prior to further flight following the accomplishment of the inspection required by paragraph (g) of this AD, cold work the fastener holes and/or the adjacent tooling hole of the right- and left-hand former junctions at FR 68, as applicable, in accordance with the Accomplishment Instructions of Airbus Service Bulletin A320-53-1090, dated November 22, 1995. Accomplishment of this cold working constitutes terminating action for the repetitive inspections required by paragraph (g)(1)(i) of this AD.

(2) If any crack is detected, prior to further flight, repair it in accordance with a method approved by the Manager, International Branch, ANM-116, Transport Airplane Directorate, FAA; or the European Aviation Safety Agency (EASA); or Airbus's EASA Design Organization Approval (DOA).

(h) New Repetitive Inspection Requirement

Within the compliance time specified in paragraph (h)(1), (h)(2), or (h)(3) of this AD, whichever occurs latest: Accomplish a rotating probe inspection for fatigue cracking of the frame junction holes and the adjacent tooling hole, as applicable, of the right- and left-hand former junctions at FR 68, in accordance with the Accomplishment Instructions of Airbus Service Bulletin A320-53-1089, Revision 03, dated March 18, 2015. Repeat the inspection thereafter at intervals not to exceed 3,800 flight cycles or 7,600 flight hours, whichever occurs first, until a repair required by paragraph (i) of this AD is done or a modification specified in paragraph (j) of this AD is done. Accomplishing an inspection required by this paragraph terminates the inspections required by paragraph (g) of this AD.

(1) Within 28,700 flight cycles or 57,400 flight hours since airplane first flight, whichever occurs first; or

(2) Within 3,800 flight cycles or 7,600 flight hours, whichever occurs first, since the most recent inspection done in accordance with the Accomplishment Instructions of Airbus Service Bulletin A320-53-1089, Revision 03, dated March 18, 2015; or

(3) Within 3,800 flight cycles or 7,600 flight hours after the effective date of this AD, whichever occurs first, without exceeding 20,000 flight cycles since the most recent inspection done in accordance with the Accomplishment Instructions of Airbus Service Bulletin A320-53-1089, Revision 03, dated March 18, 2015.

(i) New Repair Requirement

If any crack is detected during any inspection required by paragraph (h) of this AD: Before further flight, repair, including doing all applicable related investigative actions, in accordance with the Accomplishment Instructions of Airbus Service Bulletin A320-53-1089, Revision 03, dated March 18, 2015. Do all applicable related investigative actions before further flight. Repair of an airplane in accordance with the Accomplishment Instructions of Airbus Service Bulletin A320-53-1089, Revision 03, dated March 18, 2015, constitutes terminating action for the repetitive inspections required by paragraph (h) of this AD.

(j) New Optional Modification

Modification of an airplane, in accordance with the Accomplishment Instructions of Airbus Service Bulletin A320-53-1090, Revision 02, dated December 22, 1998, constitutes terminating action for the repetitive inspections required by paragraph (h) of this AD, provided the modification is accomplished before further flight after accomplishing an inspection required by paragraph (h) of this AD and no cracks were detected.

(k) Credit for Previous Actions

(1) This paragraph provides credit for actions required by paragraphs (h) and (i) of this AD, if those actions were performed before the effective date of this AD using the service information identified in paragraphs (k)(1)(i) and (k)(1)(ii) of this AD, which are not incorporated by reference in this AD.

(i) Airbus Service Bulletin A320-53-1089, Revision 01, dated June 4, 1998;

(ii) Airbus Service Bulletin A320-53-1089, Revision 02, dated February 3, 2003.

(2) This paragraph provides credit for the actions required by paragraph (j) of this AD, if those actions were performed before the effective date of this AD in accordance with the service information identified in paragraphs (k)(2)(i) and (k)(2)(ii) of this AD.

(i) Airbus Service Bulletin A320-53-1090, dated November 22, 1995, which was incorporated by reference in AD 98-13-14, Amendment 39-10602 (63 FR 34556, June 25, 1998).

(ii) Airbus Service Bulletin A320-53-1090, Revision 1, dated November 22, 1995, dated June 10, 1998, which is not incorporated by reference in this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA AD 2015-0084, dated May 13, 2015; corrected May 18, 2015, for related information. This MCAI may be found in the AD docket on the Internet at http://www.regulations.gov by searching for and locating Docket No. FAA-2016-7262.

(2) For service information identified in this AD, contact Airbus SAS, Airworthiness Office- EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on June 3, 2016.
Michael Kaszycki,
Acting Manager, Transport Airplane Directorate, Aircraft Certification Service.

[FR Doc. 2016-14301 Filed 6-20-16; 8:45 am]

BILLING CODE 4910-13-P